DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of February 26 through March 2, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss of business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

TA-W-60,859; Eaton Corporation, Aerospace Division, Phelps, NY: January 30, 2006.

TA-W-60,806; Berwick Offray LLC, Berwick Division, Berwick, PA: July 8, 2006.

The following certifications have been issued. The requirements of Section 222(b) (supplier to a firm whose workers are certified eligible to apply for TAA) of the Trade Act have been met.

TA-W-60,885; Johnson Controls, Inc., Automotive Division, Hudson, WI: February 1, 2006.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-60,789; WestPoint Home, Inc., Transportation Center, Valley, AL: January 19, 2006.

TA-W-60,799; Ecoquest Holding Corporation, Greeneville, TN: January 19, 2006.

TA-W-60,871; Forefront Group, Inc., Assembly Group, Springfield, TN: January 16, 2006.

TA-W-60,941; Hoover Precision Products, Inc., A Subsidiary of TBK Holdings, Incorporated, East Granby, CT: February 2, 2006.

TA-W-60,953; Broyhill Furniture Industries, Inc., Lenoir Chair #55, Central Fabric Division, Lenoir, NC: January 7, 2006.

TA-W-60,703; Thyssenkrupp Budd, Detroit, MI: December 13, 2005.

TA-W-60,805; Saxonburg Ceramics, Inc., Saxonburg, PA: January 19, 2006.

TA-W-60,812; Sloma Holdings, Inc., d/b/a J.S. Mold and Die, Byron Center, MI: January 19, 2006.

TA-W-60,935; Georgia Narrow Fabrics, Jessup, GA: January 26, 2006.

TA-W-60,665; American and Efird, Inc., d/b/a Robison Anton Textile Co., Formerly Robison Anton Textile Co., Clarks Summit, PA: December 20, 2005.

The following certifications have been issued. The requirements of Section 222(a)(2)(B) (shift in production) and Section 246(a)(3)(A)(ii) of the Trade Act have been met.

TA-W-60,764; Lear Corporation, Interior Systems Division, Madisonville, KY: January 12, 2006.

TA-W-60,814; Pall Life Sciences, Division of Gelman Sciences, Inc., Ann Arbor, MI: January 19, 2006.

TA-W-60,824; Hamilton Sundstrand, Rockford Manufacturing Group, Rockford, IL: January 19, 2006.

TA-W-60,852; Rolls-Royce Energy Systems, Inc., Machine Shop, Mount Vernon, OH: January 29, 2006.

TA-W-60,860; Stabilus, Inc., Gastonia, NC: February 19, 2007.

TA-W-60,877; SYZYGY, Inc., Subsidiary of Kimberly-Clark Corporation, Waco, TX: January 31, 2006.

TA-W-60,889; Forney Corporation, A Subsidiary of United Technologies, Carrollton, TX: January 31, 2006.

TA-W-60,930; Helikon Furniture LLC, Taftville, CT: February 8, 2006.

TA-W-60,986; Sardelli International LLC, Providence, RI: February 14, 2006.

TA-W-60,922; RB&W Manufacturing LLC, Kent, OH: February 5, 2006.

TA-W-60,964; Federal Mogul, Inc., Brake and Chassis Division, St. Louis, MO: February 13, 2006.

The following certifications have been issued. The requirements of Section 222(b) (supplier to a firm whose workers are certified eligible to apply for TAA) and Section 246(a)(3)(A)(ii) of the Trade Act have been met.

TA-W-60,844; Lear Corporation, Interior Systems Division (ISD), Strasburg, VA: January 28, 2006.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

None.

The Department has determined that criterion (2) of Section 246 has not been met. Workers at the firm possess skills that are easily transferable.

TA-W-60,859; Eaton Corporation, Aerospace Division, Phelps, NY.

TA-W-60,806; Berwick Offray LLC, Berwick Division, Berwick, PA.

TA-W-60,885; Johnson Controls, Inc., Automotive Division, Hudson, WI.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-60,806A; Berwick Offray LLC, South Centre, Bloomsburg, PA.

The investigation revealed that criteria (a)(2)(A)(I.B.) (Sales or production, or both, did not decline) and (a)(2)(B)(II.B.) (shift in production to a foreign country) have not been met.

TA-W-60,794; Peterbilt Motors Company, A Subsidiary of PACCAR Incorporated, Madison, TN.

TA-W-60,890; Maloney Tool and Mold, Inc., Meadville, PA.

TA-W-60,900; Martinrea Industries, Inc., Clare, MI.

The investigation revealed that criteria (a)(2)(A)(I.C.) (increased imports) and (a)(2)(B)(II.B.) (shift in production to a foreign country) have not been met.

TA-W-60,186; Deltak, LLC, Plymouth, MN.

TA-W-60,594; Ampac Spanish Fork, LLC, Spanish Fork, UT.

TA-W-60,729; Greif, Inc., Formerly Know As G.C.C. Drum, Franklin Park, IL.

TA-W-60,884; C.A. Lawton Company, Machinery Division, De Pere, WI.

TA-W-60,726; CNI Duluth, LLC, Duluth, MN.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under Section 222 of the Trade Act of 1974.

TA-W-60,634; Time Warner Cable, Coudersport, PA.

TA-W-60,798; Leica Geosystems GRR, LLC, A Division of Leica Geosystems, Inc., Grand Rapids, MI.

TA-W-60,902; Tenet Healthcare, Patient Financial Services, Syndicated Office Systems, Corvallis, OR.

TA-W-60,939; New Orleans Cuisine, Working On-Site at Guide Louisiana, LLC, Grambling, LA.

TA-W-60,981; Sunbeam Products Inc., d/b/a Jarden Consumer Solutions, Milford, MA.

The investigation revealed that criteria of Section 222(b)(2) has not been met. The workers' firm (or subdivision) is not a supplier to or a downstream producer for a firm whose workers were certified eligible to apply for TAA.

None.

I hereby certify that the aforementioned determinations were issued during the period of February 26 through March 2, 2007. Copies of these determinations are available for inspection in Room C-5311, U.S. Department of Labor, 200 Constitution Avenue, NW., Washington, DC 20210 during normal business hours or will be mailed to persons who write to the above address.

Dated: March 6, 2007.
Ralph Dibattista,
Director, Division of Trade Adjustment Assistance.

[FR Doc. E7-4572 Filed 3-13-07; 8:45 am]

BILLING CODE 4510-FN-P